DEPARTMENT OF COMMERCE

National Oceanic and Atmospheric Administration

RIN 0648-XC845

North Pacific Fishery Management Council; Public Meetings

AGENCY: National Marine Fisheries Service (NMFS), National Oceanic and Atmospheric Administration (NOAA), Commerce.

ACTION: Notice of public meetings.

SUMMARY: The North Pacific Fishery Management Council (Council) Observer Advisory Committee (OAC) will meet in Seattle, WA.

DATES: The meetings will be held September 18-19, 2013. The meeting will be held from 8:30 a.m. to 5 p.m. on September 18, and from 8:30 to 12:30 or until finished on September 19.

ADDRESSES: The meetings will be held at the Alaska Fishery Science Center, 7600 Sand Point Way NE., Building 4, Observer Training Room, Seattle, WA.

Council address: North Pacific Fishery Management Council, 605 W. 4th Ave., Suite 306, Anchorage, AK 99501-2252.

FOR FURTHER INFORMATION CONTACT: Diana Evans, Council staff, telephone: (907) 271-2809.

SUPPLEMENTARY INFORMATION: The agenda items include: Update on implementation of observer restructuring, Presentation of draft 2014 observer annual deployment plan (ADP), Review of NMFS letter responding to Council recommendations and requests for the 2014 ADP, Public Comment, OAC discussion and recommendations, Scheduling and other issues including discussion of voluntary observer coverage for clean up IFQ trips involving multiple regulatory areas.

The Agenda is subject to change, and the latest version will be posted at http://www.alaskafisheries.noaa.gov/npfmc/

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 28, 2013.
Tracey L. Thompson,
Acting Deputy Director, Office of Sustainable Fisheries, National Marine Fisheries Service.

[FR Doc. 2013-21368 Filed 8-30-13; 8:45 am]

BILLING CODE 3510-22-P